DEPARTMENT OF HEALTH AND HUMAN SERVICES

Performance Review Board Members

Title 5, U.S.C. Section 4314(c)(4) of the Civil Service Reform Act of 1978, Public Law 95-454, requires that the appointment of Performance Review Board Members be published in the Federal Register.

The following persons may be named to serve on the Performance Review Boards or Panels, which oversee the evaluation of performance appraisals of Senior Executive Service members of the Department of Health and Human Services.

LAST NAME | FIRST NAME
ETZINGER | MICHAEL
CLARK | WESTLEY
HENDRIKSSON | MARLA
DEL VECCHIO | PAOLO
ENOMOTO | KANA
DELPHIN-RITTMON | MIRIAM
HARDING | FRANCES
DELANY | PETER
BEADLE | MIRTHA
KADE | DARYL
POWER | KATHRYN
BENOR | DAVID
FLEMING | MARY

Michael Etzinger,
Executive Officer and Director, Office of Management, Technology and Operations.
Janine Denis Cook,
Chemist, Division of Workplace Programs, Center for Substance Abuse Prevention, Substance Abuse and Mental Health Services Administration.

[FR Doc. 2013-27423 Filed 11-15-13; 8:45 am]

BILLING CODE 4151-17-P